ENVIRONMENTAL PROTECTION AGENCY

40 CFR Part 52

[IN158-1a; FRL-7626-7]

Approval and Promulgation of Implementation Plans; Indiana

AGENCY: Environmental Protection Agency (EPA).

ACTION: Direct final rule.

SUMMARY: The Environmental Protection Agency is approving revisions to particulate matter (PM10) emissions regulations for U.S. Steel-Gary Works and U.S. Steel-Gary Coke Operations, located in Lake County, Indiana. The Indiana Department of Environmental Management (IDEM) requested on June 13, 2003, and supplemented on October 3, 2003, that EPA approve this State Implementation Plan (SIP) revision, as an amendment to 326 Indiana Administrative Code (IAC) 6-1-10.1 and 326 IAC 6-1-10.2. The revisions to the rules reflect the closure of certain emission units, the addition of new emission units, and the installation of new control systems. These changes should result in decreased PM10 emissions of approximately 350 tons per year (tpy). EPA is approving this request because it satisfies the requirements of the Clean Air Act (Act).

DATES: This rule is effective on May 21, 2004, unless EPA receives adverse written comments by April 21, 2004. If EPA receives adverse comments, EPA will publish a timely withdrawal of the rule in the Federal Register and inform the public that the rule will not take effect.

ADDRESSES: You may inspect copies of the documents relevant to this action during normal business hours at the following location: Criteria Pollution Section, Air Programs Branch, (AR-18J), U.S. Environmental Protection Agency, Region 5, 77 West Jackson Boulevard, Chicago, Illinois 60604. Please contact Christos Panos at (312) 353-8328 before visiting the Region 5 office.

Send written comments to: J. Elmer Bortzer, Acting Chief, Air Programs Branch, (AR-18J), U.S. Environmental Protection Agency, Region 5, 77 West Jackson Boulevard, Chicago, Illinois 60604.

Comments may also be submitted electronically or through hand delivery/courier, please follow the detailed instructions described in Part(I)(B)(1)(i) through (iii) of the Supplementary Information section.

FOR FURTHER INFORMATION CONTACT: Christos Panos, Environmental Engineer, Criteria Pollution Section, Air Programs Branch (AR-18J), U.S. Environmental Protection Agency, Region 5, 77 West Jackson Boulevard, Chicago, Illinois 60604, (312) 353-8328. panos.christos@epa.gov

SUPPLEMENTARY INFORMATION: This Supplementary Information section is organized as follows:

I. General Information

II. Review of State Implementation Plan Revision

1. What Is EPA Approving?

2. Why Did the State Revise its Rules?

3. What Is EPA's Analysis of the State's Submittal?

4. Did Indiana Hold a Public Hearing?

III. What Action Is EPA Taking?

IV. Is this Action Final, or May I Submit Comments?

V. Statutory and Executive Order Reviews.

I. General Information

A. How Can I Get Copies of This Document and Other Related Information?

1. The Regional Office has established an official public rulemaking file available for inspection at the Regional Office. EPA has established an official public rulemaking file for this action under “Region 5 Air Docket IN158”. The official public file consists of the documents specifically referenced in this action, any public comments received, and other information related to this action. Although a part of the official docket, the public rulemaking file does not include Confidential Business Information (CBI) or other information whose disclosure is restricted by statute. The official public rulemaking file is the collection of materials that is available for public viewing at the Air Programs Branch, Air and Radiation Division, EPA Region 5, 77 West Jackson Boulevard, Chicago, Illinois 60604. EPA requests that if at all possible, you contact the contact listed in the For Further Information Contact section to schedule your inspection. The Regional Office's official hours of business are Monday through Friday, 8:30 to 4:30 excluding Federal holidays.

2. Electronic Access. You may access this Federal Register document electronically through the Regulations.gov Web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and To Whom Do I Submit Comments?

You may submit comments electronically, by mail, or through hand delivery/courier. To ensure proper receipt by EPA, identify the appropriate rulemaking identification number by including the text “Public comment on proposed rulemaking Region 5 Air Docket IN158” in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to bortzer.jay@epa.gov. Please include the text “Public comment on proposed rulemaking Region 5 Air Docket IN158” in the subject line. EPA's e-mail system is not an “anonymous access” system. If you send an e-mail comment directly without going through Regulations.gov, EPA's e-mail system automatically captures your e-mail address. E-mail addresses that are automatically captured by EPA's e-mail system are included as part of the comment that is placed in the official public docket.

ii. Regulations.gov. Your use of Regulations.gov is an alternative method of submitting electronic comments to EPA. Go directly to Regulations.gov at http://www.regulations.gov, then click on the button “TO SEARCH FOR REGULATIONS CLICK HERE”, and select Environmental Protection Agency as the Agency name to search on. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in Section 2, directly below. These electronic submissions will be accepted in WordPerfect, Word or ASCII file format. Avoid the use of special characters and any form of encryption.

2. By Mail. Send your comments to: J. Elmer Bortzer, Acting Chief, Air Programs Branch, (AR-18J), U.S. Environmental Protection Agency, Region 5, 77 West Jackson Boulevard, Chicago, Illinois 60604. Please include the text “Public comment on proposed rulemaking Region 5 Air Docket IN158” in the subject line on the first page of your comment.

3. By Hand Delivery or Courier. Deliver your comments to: J. Elmer Bortzer, Acting Chief, Air Programs Branch, (AR-18J), U.S. Environmental Protection Agency, Region 5, 77 West Jackson Boulevard, 18th floor, Chicago, Illinois 60604. Such deliveries are only accepted during the Regional Office's normal hours of operation. The Regional Office's official hours of business are Monday through Friday, 8:30 to 4:30 excluding Federal holidays.

C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR Part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

II. Review of State Implementation Plan Revision

1. What Is EPA Approving?

We are approving PM10 emissions regulations for U.S. Steel-Gary Works and U.S. Steel-Gary Coke Operations, located in Lake County, Indiana. Specifically, we are approving revisions to 326 IAC 6-1-10.1, Lake County PM10 emission requirements, and 326 IAC 6-1-10.2, Lake County PM10 coke battery emission requirements, into the Indiana PM10 SIP. The revised rules were adopted by the Indiana Air Pollution Control Board on May 7, 2003, and were submitted by IDEM to EPA on June 13, 2003. IDEM submitted a supplement to its submission on October 3, 2003 indicating that the revised rules became effective September 5, 2003 and were published in the Indiana Register on October 1, 2003.

2. Why Did the State Revise its Rules?

In the June 13, 2003 submission, IDEM requested that EPA approve revisions to regulation 326 IAC 6-1-10.1 that are specific to U.S. Steel's integrated steel-making operations in Gary, Indiana. The rule revisions address changes to 54 emission points that have occurred at the plant since the previous rule had become effective in 1993. Many of the changes, which substantially decrease PM10 emissions, were the result of a March 22, 1996 Agreed Order entered into by IDEM and U.S. Steel. These revisions reflect the closure of 16 sources and the addition of 11 sources, resulting in an overall decrease in PM10 emissions of approximately 350 tpy.

IDEM has also requested that EPA approve revisions to regulation 326 IAC 6-1-10.2 that are specific to U.S. Steel—Gary Coke Operations. The monitoring and reporting requirements in 326 IAC 6-1-10.2 had been specifically promulgated for the use of process water in the coke quench water system. In accordance with the March 22, 1996 Agreed Order, U.S. Steel began using lake water in the coke quench water system and ceased using process water. Initially, IDEM granted U.S. Steel a one-year variance from the monitoring and reporting requirements of 326 IAC 6-1-10.2 on April 19, 2002. IDEM granted a one-year extension to the variance on April 1, 2003. The revisions to the rule eliminate the need for annually renewing the variance by removing the former monitoring and reporting requirements for the use of process water since they are no longer necessary.

3. What Is EPA's Analysis of the State's Submittal?

Based on the rule revisions, an air quality modeling analysis of PM10 concentrations attributable to U.S. Steel and other Lake County sources was conducted using the Industrial Source Complex-Short Term model, Version 3 (ISCST3). This model is currently listed in EPA's Guideline on Air Quality Models (40 CFR part 51, Appendix W) as the recommended model for this kind of application. The model was set up to calculate predicted concentrations using the required regulatory default options. Building dimensions were considered in the analysis for downwash purposes. The building coordinates were determined using EPA's Building Profile Input Program (BPIP) and included in ISCST3. The analysis used surface weather conditions from the Hammond on-site tower combined with the mixing heights of Peoria and Lincoln, Illinois for the years 1991-1995.

The entire Lake County PM10 inventory was modeled. IDEM used an updated inventory for U.S. Steel that includes fugitive dust emissions from the plant area, roadways, storage piles and material handling activities, and an update of emission sources due to the removal, replacement or installation of equipment. Background PM10 concentrations, based on average daily wind direction, were added to the predicted PM10 values for comparison to the National Ambient Air Quality Standards (NAAQS). IDEM did not identify any modeled exceedances at receptors placed in ambient locations.

EPA believes the modeling analysis submitted by IDEM satisfies the Act and applicable guidance. Results from the ISCST3 modeling indicate that the impacts from the rule revision do not cause any exceedances of the PM10 NAAQS. EPA, therefore, concurs with IDEM that the requested SIP revision should continue to protect air quality in the area.

The revisions to regulation 326 IAC 6-1-10.2 make permanent the portion of the variance concerning quench water testing. These revisions retain the quench water SIP limit of 1500 milligrams per liter of dissolved solids, but eliminate the monitoring and reporting requirements and testing procedures which had been tailored for testing the quality of quench water that includes process water. U.S. Steel switched to the use of lake water in the coke quenching process in 1999. The removal of process water from the quench water system, as previously discussed, eliminates the unique circumstances that resulted in the specialized monitoring and reporting requirements in 326 IAC 6-1-10.2. U.S. Steel is now subject to the same monitoring and reporting requirements as other coke quenching operations in Indiana that use lake water.

The test methods for quench water are found in Indiana rule 326 IAC 6-6-2(i). Monitoring and reporting will be handled in accordance with the continuous compliance plan requirements in Indiana rule 326 IAC 6-1-10.1(1). Further, the national emission standards for hazardous air pollutants (NESHAP) for coke ovens found in 40 CFR 63 subpart CCCCC (promulgated April 14, 2003, at 68 FR 18007), identify the requirements for new and existing coke oven batteries. The coke oven NESHAP includes appropriate test methods and monitoring and reporting requirements. Indiana has confirmed that Method 2540D, Total Suspended Solids Dried at 103-105 C, from Standard Methods for the Examination of Water and Wastewater, 20th Edition, shall be used in any test of compliance with the quench water quality limits in 326 IAC 6-1-10.2 and 326 IAC 6-6-2. Method 2540D is an equivalent method to the test methods contained in 40 CFR 63 subpart CCCCC.

In summary, Indiana's rule revisions replace a test method tailored to previous circumstances at U.S. Steel with a more generally applicable and equally acceptable test method. Indiana has eliminated provisions requiring a specific schedule of periodic testing but continues to provide for State and Federal authority to require tests at any time, thus providing adequate authority for the State and EPA to assess ongoing compliance status.

4. Did Indiana Hold a Public Hearing?

Two public hearings before the State of Indiana Air Pollution Control Board were held on the rule revisions. One comment was made at the first public hearing on February 5, 2003 in support of the rule revisions. There were no comments made at the second public hearing held on May 7, 2003.

III. What Action Is EPA Taking?

EPA is approving revisions to 326 IAC 6-1-10.1, the PM10 emission requirements for Lake County, Indiana, and 326 IAC 6-1-10.2, the PM10 coke battery emission requirements for Lake County, Indiana. The state submitted this SIP revision on June 13, 2003, with a supplement submitted on October 3, 2003. The revisions to the rules amend the PM10 emission limits at U.S. Steel-Gary Works and U.S. Steel-Gary Coke Operations. The PM10 modeling analysis provides for maintenance of the PM10 NAAQS, therefore demonstrating that the air quality of Lake County, Indiana should be protected.

IV. Is this Action Final, or May I Submit Comments?

EPA is publishing this action without prior proposal, because EPA views this as a noncontroversial revision and anticipates no adverse comments. However, in a separate document in this Federal Register publication, EPA is proposing to approve the SIP revision. Should EPA receive adverse written comments by April 21, 2004, we will withdraw this direct final rule and respond to any comments in a final action. If EPA does not receive adverse comments, this action will be effective without further notice. Any parties interested in commenting on this action should do so at this time. If we do not receive comments, this action will be effective on May 21, 2004.

V. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by May 21, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: February 6, 2004.
Bharat Mathur,
Acting Regional Administrator, Region 5.

Title 40 of the Code of Federal Regulations, chapter I, part 52, is amended as follows:

PART 52—[AMENDED]

1. The authority citation for part 52 continues to read as follows:

Authority: 42 U.S.C. 7401 et seq.

2. Section 52.770 is amended by adding paragraph (c)(164) to read as follows:

§ 52.770 Identification of plan.

* * * * *

(c) * * *

(164) On June 13, 2003, and as supplemented on October 3, 2003, Indiana submitted a State Implementation Plan (SIP) revision for the control of emissions of particulate matter (PM10) in the state of Indiana. Revisions to 326 IAC 6-1-10.1 and 326 IAC 6-1-10.2 amend the PM10 emission limits at U.S. Steel-Gary Works and U.S. Steel-Gary Coke Operations, located in Lake County, Indiana, and should result in decreased PM10 emissions of approximately 350 tons per year.

(i) Incorporation by reference. The following sections of the Indiana Administrative Code are incorporated by reference.

(A) Amendments to Indiana Administrative Code Title 326: Air Pollution Control Board, Article 6: Particulate Rules, Rule 1: Non-attainment Area Limitations, Section 10.1: Lake County PM10 emission requirements. Filed with the Secretary of State on August 6, 2003 and effective on September 5, 2003. Published at Indiana Register, Volume 27, Number 1, October 1, 2003 (27 IR 61).

(B) Amendments to Indiana Administrative Code Title 326: Air Pollution Control Board, Article 6: Particulate Rules, Rule 1: Non-attainment Area Limitations, Section 10.2: Lake County PM10 coke battery emission requirements. Filed with the Secretary of State on August 6, 2003 and effective on September 5, 2003. Published at Indiana Register, Volume 27, Number 1, October 1, 2003 (27 IR 85).

[FR Doc. 04-6214 Filed 3-19-04; 8:45 am]

BILLING CODE 6214-50-P